DEPARTMENT OF THE TREASURY

Office of Foreign Assets Control

Unblocking of 1 Individual and 2 Entities Designated Pursuant to Executive Order 13315

AGENCY: Office of Foreign Assets Control, Treasury.

ACTION: Notice.

SUMMARY: The Treasury Department's Office of Foreign Assets Control (“OFAC”) is removing the names of 1 individual and 2 entities whose property and interests in property are blocked pursuant to Executive Order 13315 of August 28, 2003, “Blocking Property of the Former Iraqi Regime, Its Senior Officials and Their Family Members, and Taking Certain Other Actions” from the list of Specially Designated Nationals and Blocked Persons (“SDN List”).

DATES: The removal of these individual and entities from the SDN List is effective as of July 17, 2012.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On August 28, 2003, the President issued Executive Order 13315 (the “Order”) pursuant to the International Emergency Economic Powers Act, 50 U.S.C. 1701 et seq., the National Emergencies Act, 50 U.S.C. 1601 et seq., section 5 of the United Nations Participation Act, as amended, 22 U.S.C. 287c, section 301 of title 3, United States Code, and in view of United Nations Security Council Resolution 1483 of May 22, 2003. In the Order, the President expanded the scope of the national emergency declared in Executive Order 13303 of May 22, 2003, to address the unusual and extraordinary threat to the national security and foreign policy of the United States posed by obstacles to the orderly reconstruction of Iraq, the restoration and maintenance of peace and security in that country, and the development of political, administrative, and economic institutions in Iraq. The Order authorizes the Secretary of the Treasury, in consultation with the Secretary of State, to designate additional persons or entities determined to meet certain criteria set forth in Executive Order 13315.

The Department of the Treasury's Office of Foreign Assets Control has determined that these 1 individual and 2 entities should be removed from the SDN List.

The following designations are removed from the SDN List:

Individual

1. KARAM, Nabil Victor, c/o ALFA COMPANY LIMITED FOR INTERNATIONAL TRADING AND MARKETING, P.O. Box 212953, Amman 11121, Jordan; c/o ALFA COMPANY LIMITED FOR INTERNATIONAL TRADING AND MARKETING, P.O. Box 910606, Amman 11191, Jordan; c/o TRADING AND TRANSPORT SERVICES, Al-Razi Medical Complex, Jabal Al-Hussein, Amman, Jordan; c/o TRADING AND TRANSPORT SERVICES, P.O. Box 212953, Amman 11121, Jordan; c/o TRADING AND TRANSPORT SERVICES, P.O. Box 910606, Amman 11191, Jordan; DOB 1954; nationality Lebanon (individual) [IRAQ2].

Entities

1. ALFA COMPANY LIMITED FOR INTERNATIONAL TRADING AND MARKETING (a.k.a. ALFA INVESTMENT AND INTERNATIONAL TRADING COMPANY; a.k.a. ALFA TRADING COMPANY), P.O. Box 910606, Amman 11191, Jordan [IRAQ2].

2. TRADING AND TRANSPORT SERVICES COMPANY, LTD., Al-Razi Medical Complex, Jabal Al-Hussein, Amman, Jordan; P.O. Box 212953, Amman 11121, Jordan; P.O. Box 910606, Amman 11191, Jordan [IRAQ2].

The removal of these individual and entities names from the SDN List is effective as of July 17, 2012. All property and interests in property of the 1 individual and 2 entities that are in or hereafter come within the United States or the possession or control of United States persons are now blocked.

Dated: July 17, 2012.
Adam J. Szubin,
Director, Office of Foreign Assets Control.

[FR Doc. 2012-18030 Filed 7-23-12; 8:45 am]

BILLING CODE 4810-AL-P